DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2018. For purposes of this listing, long-term residents, as defined in section 877(e)(2), are treated as if they were citizens of the United States who lost citizenship.

Last name | First name | Middle name/initials
ABBOTT | IVONNE | TERESA
ABRAHAMSON | JEFFREY | MARK
ACKER | ELISABETH | F.L.
ACKER | WILLIAM | JAMES
ADAIR | CAROLYN | ANN
AERNE | SANDRA | DANIELA
AGGERSBJERG | ALEXANDER |
AJMONE-MARSAN | GIULIA |
AL MANSSORY | NADA | ALI ABDURAZAQ
ALBANESE | MICHELE |
ALBERT | MICHAEL | JOHN
ALEMAN | DIONNE | MICHELLE
ALEXANDER | DAWNA | LEE
ALIREZA | GHASSAN | ALI
ALMUTAIRI | SHADEN | AHMAD
AL-NASR | TOFOL |
AL-NOWAISER | SAUD | FAISAL
AL-RODAN | FAHAD | HAMAD ROWAIH ALI
ANDERSON | CHARLES | EINAR
ANDERSON | CHARLES | RICHARD
ANDERSON | GARRETT | RUSSELL
ANDERSON | JACK | BUDD
ANDERSON | LORENE | MARIE
ANDERSON | NELS | CHRISTIAN
ANDREWS | JEROME | B.
ANGER | CLEMENCE | MARIE
ARNOLD | MICHAEL | JAMES
ARONOFF | ALAN | EVAN
ASHLEY | ROSS | CLIFFORD
ASPER | LISA | JEAN
ATTIE | JONATHAN | DAVID
AXENROTH | PATRICIA |
AXFORD | JAMES | HERBERT
AYRES | MELANIE |
AZHAR | EMAD | A.
BADEN | SUZANNE | MARIE
BAE | HYUN-JI |
BAETEN | MICHELLE | CATHERINE
BALTRUS | ELIZABETH | MARY
BANAGAN | ROBERT | FRANCIS
BANDEIRA | LYNETTE | LEVY
BANGEN | JANINE | CHARLOTTE
BARKER | ALEXA-MARIA | RATHBONE
BARNARD | JOSHUA | DAVID
BARNES | SUSAN | LORETTA
BARNICOT | MICHELE | SANDRA
BARRITT | KATHERINE | SYBIL
BATCHELOR | MOLLY | MARGARET
BATTJES | FORREST | NICHOLAS
BAUMANN | SUSAN | ELIZABETH
BAUMGARTEN | EVELYN | MARIA
BAXENDINE | EMILY | YERKES
BAXTER | JORDAN | PATRICK
BECK | BARBARA | HARDIN
BECK | JAMES | AUSTIN
BECK | RACHEL | LYNN
BECKER | HELEN | SUZANNA
BECKER | MARY | HESTER
BEGOUGNE DE JUNIAC | ELISABETH | MARIE A.
BELKNAP | JESSICA | SARAH
BELL | ANDREW | JAMES
BENITEZ | MERCEDES | MARIA FABREGA DE
BENN | DAVID | WESLEY
BENSON | COHEN | WYBORN
BENTHIEN | BRENDA | RUMMLER
BERBIGIER | CECILE | JENNIFER GENEVIEVE
BERCHTOLD | NATHALIE | MICHELE
BERDAN | ANTHONY | RYAN
BERGER | CONNIE |
BERK | MAURICE | ABRAHAM
BERLI | CHRISTOPH | A.
BERN | CAROLYN | N.
BERNSTEIN | STEVEN | CHARLES
BERROETA | XIAOLI |
BIERSDORFF | KATHLEEN | KAROL
BIETH | VIVIANE | YVONNE
BILDNER | NICHOLAS | JAMES
BINDER | MICHAEL | ANDREAS
BINSWANGER | IIKA | DANIELA
BIRCHMEIER | LINDA | MARIE-LOUISE
BIRD | KRISTINA | DIANA
BITAR | ANA | MARIA
BLACKORBY | CHARLES | EDWARD
BLACKWELL | TRISTAN | MARK
BLISS | MARY | ALLISON
BLOCH | ANETTE |
BLOCH | DAVID | M.
BLOCH | PATRICK | HARRY
BLOCK | AMY | ELLEN
BLOECHLINGER-ERNST | DANIELA | ROSA
BLOM | MARY | FAITH
BLOOM | WALTER | SINGER
BLUME | MICHAEL | STEPHEN
BOARDMAN | EMILY | JULIA
BOCCHINO | ROBERT | MARIO
BODDEN | AMANDA | MARIE
BOETTCHER-MEIER | BARBARA | VIRGINIA
BOLLETER | THOMAS | EDWARD
BOLLIGER | MICHAEL | JAY
BONNEVIOT | MADELEINE | MARIE-DOMINIQUE
BOROWSKI | HELEN | ABELMAN
BORTOLI | FRANCA | ANTONIA
BOTSIS | MARIA |
BOULTON | DANE | ANTHONY
BOUX DE CASSON | SEBASTIEN | AMAURY
BOYCE | ANDREW | DANIEL
BOYCE | DANIEL | GERARD
BOYCE | SUZANNE | WASLEY
BOYLE | MICHAEL | TYSON
BRACQ | JEREMIE | THOMAS
BRADY | MEGAN | CAITLIN
BRAIN | TRACY | EILEEN
BRAUDE | JONATHAN | PAUL
BREEDERLAND | LEVI | WESLEY
BREEDERLAND | MEHALA | JOY
BREEDERLAND | TYSON | MARTIN
BREEN | HILDEGARDE |
BREMNER | DAVIN | LEDRICH
BRENNAN | WLADIMIR | HUBERT
BRINTRUP | ASTRID | MARIE
BROEREN | THOMAS | WILLIAM
BROT | KIERAN | PATRICK
BROT | YANNICK | A.
BROWN | CHARLOTTE | ANN
BROWN | KATHLEEN | ANNE GRACE
BROWN | STEPHANIE | AREHART
BROWNLEE | KATHLEEN | PHYLLIS
BRUNEL | ARNAUD | M.
BRUNNER | NOAM | SIMON
BRUNNER | SIMON | STONE
BUCHS | DOMINIC |
BULLIMORE | LANA | KAY
BUNGE | ERIK | WILLEM
BURGIN | MICHELLE | CHRISTINE
BURNS | BRUCE | THOMASSEN
BURRI-SHAFER | LORENA | ANN
BURT | BENJAMIN | EDWARD
BURT | KEVIN |
BURT | LYNNE |
BURTON WINTER | ALEXIS | CHAVAH
BUSHNELL | SUSAN | MARY
BUSUTTIL | NINA | BURAWOY
BUTLER | GERALDINE | SUE
CALABRO | PAULETTE | ANN
CALLAN | MITZI | MERCEDES
CAMPBELL | CASEY | GEORGE
CANNON | TRINA | ELIZABETH
CARCANO | WENDY | ARLENE
CARLSON | BARRY | MARCUS
CARNOHAN | OLIVIER | SEAN
CARNOT | FANNY | VICTORIA
CASALI | INGRID |
CATHCART | LUTJE | MARIEKE
CHAI | JONATHAN | WE JIE
CHANG | BETHANY | XUJIE
CHANG | KENNY | YU
CHANG | MICHELLE | ELIZABETH
CHANG | WAN-LING |
CHANG | YUN | TENG
CHAPDELANIE | SOPHIE | CORINNE
CHAUHAN | NADIA |
CHENG | BEVERLY |
CHEONG | JOSEPH | HO CHO
CHERVENAK-PESSLER | MIGUELA | MARIE
CHIDIAC | BARBAR | ANN
CHIHARA | NORIO |
CHILTON | JESSICA | MEGAN
CHOI | CINDY |
CHOI | HOWARD | JAY
CHOI | YUN | BOK
CHOU | CHARLES | GUA-HAO
CHOW | DONALD | WAN HOK
CHOW | JOHNNY | YUNG-MING
CHOW | PO | CHEE
CHRISTENSEN | CAROL | ELAINE
CHU | ABRAHAM |
CHUANG | WALTER | TWON-YALL
CHUKAT | BRACHA | BATYA
CHUN | BRADLEY | ALAN
CHUNG | HUBERT | PING-HUANG
CHUNG | TERUYO |
CHURCH | DARREN | RUSSELL
CLARK | FLORA | SABINA
CLASS | JENNIFER | ANN
CLAYTON | JEANNINE | JOCELYN
COHEN | CHAVA | YENTA
COHEN | MEIR | AARON
COLBORNE | MELANIE | TALULAH
COLE | JAMES | ANDREW
COLEMAN | REBECCA | JANE
COLLIN | JOCELYNE |
COLLINS | CLAUDINE | GWENNETH
COLLINS | LACHLAN | LAMONT
CONLIN | KAREN | ELIZABETH
COOK | SHERRY | ANN
COOKE | BARBARA | LYNN
COOKE | MICHELLE | C.
COOPER | SIMON | ROBERT
CORBIN | HEATHER | MARIE
CORCOSTEGUI | ANGEL | EDUARDO
CORDRAY | LINDA | PATRICIA
CORRIAS | ALESSANDRO | GEORGE
CORRIGAN GIBSON | MADELEINE |
CORY | HUGO |
COTTAAR | JOLIJN |
CRAGG | GEOFFREY | PHILIP
CRAIG | DONALD | CHARLES
CRAWFORD | ELIZABETH | LINDE
CRAWFORD | LILY | ELIAS
CRESSMAN | DAVID | EDWARD
DAMANT | JOHANNA | CAROLINA
DANEKER | VINCENT | JOSEPH
DANI | MD | WIRA
DANIEL | JAMES | RICHARD
DAO | RAMSEY | DAVID
DARAKANANDA | VIPARPHAN |
DARLING-DOIDGE | DAVID | WILLIAM
DASHINEAU | ROBERT | C.
DAVENPORT | ETHAN | MATTHEW
DAVENPORT | SUZANNE | ELIZABETH
DAVEY | SUSAN |
DAVIDSON | JANE | KATHLEEN
DAVIDSON | WESTERLY | BOW
DAVIES | JUDITH | PLACKO
DAVIES | LAURA | JANE
DAVIS | DAVID | EDWARDS
DAVIS | DIANNE |
DAVIS | EDITH | J.
DAVIS | LANCE | ASHTON
DAVOUDI | LEONARDO |
DAWSON | MICHELLE | CARRIE KARP
DAYAT | VALERIE | EVELYN
DAYOUB | PAUL | ROBERT
DE ALBERGARIA | MARIA | VICTORIA TEIXEIRA
DE CARVALHO NETO | RAUL | DAHAS
DE GRAAF | ANNE | MAUREEN
de GRAAF | DANIEL | DEREK
DE JESUS CRISTO | ANGELIKA | RENATE
DE JESUS CRISTO | CAITLIN | CASSANDRA
DE LA OSSA | MADELAINE | MERCEDES
DE LESSEPS | NADJA | DIANA
DE OBALDIA | MARIA | ISABEL
DE RIBES | OLIVIER | MARC
DE SAUSSURE-VONECHE | MARINA | PAOLA
DE SILVA | ISABELLE | YOLANDE
DE VITRLY D'AVAUCOURT | OLIVIA | CELIA
DE VORE | CRAIG | ALAN
DEESON | HELEN | MARY
DEIBLER | KATHARIN |
DELANNEY | LAURENT | LOUIS
DELISLE | VINCENT |
Della Faille Dhuysse | Charlotte | M.
DEN DAAS | CHRISTIAN | DIANA
DEN DAAS | JAN | WILLEM THOMAS
DEN DAAS | LIA | JUDITH JOHANNA
DENKE | SYBIL | LEILANI ANN
DENWIGROM | JIRAPA |
DESJARDINS | CRYSTAL |
DEVEREUX | HELEN |
DEVILLE | ANOUK |
DEWIT | ALYSSA | NEELTJE
DIBATTISTA | DAVID |
DIMMICK | JOSEPH | TIANLI
DION | KRISTEN | MARIE
DIOP | MOMAR |
DOLAN | TIMOTHY | EDWARD
DOMINGUE | CANDIDE | THERESE
DOOHAN | NEIL | PATRICK
DOYLE | JENNIFER | ANNE
DOYLE | KAREN | KAY
DRAGHI | FEDERICA |
DREISE | JEREMY | MICHAEL
DRIVER | KELLY | LOUISE
DROOKER | STEPHEN | EDWARD
DUDA | MARCEL-TITUS |
DUECK | REBECCA | JOANNE
DUGAN | CHARLES | HAMMOND
DUMAIS | LYNNE | MARIE
DURNERIN | SYLVIE | MARIE-GENEVIEVE
DUSCHLETTA | GIANNA |
DUSSOL | CHRISTINE | MARIE
DUYNHOUWER | JOHN | DEREK
EARLY | FRANCES | HORN
EDE | SEGOLENE |
EDWARDS-DAVIS | CATHY |
EGGERSCHWILER | LUCA |
EHRENSTROM | PHILIPPE | HAROLD
EINIG | KEVIN | KEITH
EKHOLM | BRADLEY | GERALD
ELEFANT | MARTIN |
EN CI KOH | ANDREW | JOSHUA
ENDERBY | MAUREEN |
ENGLAND | JENNIFER | SARAH
ENNS | BRONWEN |
EPP | MARK | ANDREW
ETCHEBERRY | DIEGO | SOLARI
EVERITT | TRACEY | LEE
EYTON | PAMELA | JANE
FAWAZ | MAHA | JAMAL
FEELEY | MICHAEL | FRANCIS
FELKER | ELSA | MAY
FENSKE | JOHN | ARTHUR
FILAN | SUSAN | LOUISE
FINDLEY | ANGELA | RENE
FINDLEY | LUCAS | WILLIAM
FIRER-GILLESPIE | ELIZABETH | ANN LEE
FITZ | JACOB | JAMES
FITZGERALD | DANIEL | JOSEF
FLETCHER | BRETT | STUART
FOLKERTH | DAVID | DALE
FORWARD | LINDA | MILDRED
FOSTER | SANDRA | MARIE
FRANCO | JOSE | L.
FRANKEN | CHANDRA | RAE
FRANKEN | DIANE | VICTORIA
FRANKEN | JESSICA | EMILY
FRANKLIN | JUDITH | ANN
FRANZEN | ELIZABETH | ERIN
FRASER | KATHERINE | JEAN
FREEMAN | JENNIFER | THERESA
FREEMAN | LAURA | SHIRLEY
FREW | STACIA | A.
FROEHLICH | MARCO | PETER
FROST | PETER | DAVID
FU | KENT | HOU THAI
FUNG | PEGGY | SIU YING
GABBIANI HAGERTY | WILLIAM | PATRICK
GALENTINE | LINDA | JANE
GALLIANO | LISA | LUCILLE
GARCIA | LUIS | MIGUEL
GARCIA VALDEZ | CARMEN | VERONICA
GATTIKER | BEATRICE | IRENE
GAUT | GRETA | BASHAWN
GEMMER | SEBASTIEN | PATRICK
GERMAN, SR | EFREN | POLICARPIO
GERSON | ALAN | JAMES
GHITTINI | GWENDOLYN | FRANCESCA
GILES-STEWART | ALICIA | DOLORES
GILHAM | CAROL | ANN
GILLESPIE | CAROLINE | HARRIET
GILLMAN | PAMELA | JANE
GILLMAN | STEPHEN | SCOTT
GILMAN | HARRY | DALE
GILMORE | RUTH | ESTHER
GINSBURG | LUCY |
GLADSTONE-GELMAN | RACHEL | GWYN
GLOVER | JESSICA |
GOH | ALEXANDER | WEI JUN
GOH | BRIAN | JOSHUA
GOLD | MELISSA | PETTY
GOLDSTEIN | JONATHAN | HILTON
GOLDSTEIN | SHIRLEY |
GOMEZ DE MESQUITA | FRANCOIS | DAVID
GOODRICH | KALON | BRYCE
GORECKI | ANNE-MARIE | GABRIELLE L'HEUREUX
GORIS | MARC | AUGUST PAUL
GORRELL | RONALD | GENE
GOTSIS | ANASTASIOS |
GOTTLIEB | KRISTINE | SUSAN
GOTTSCHALK | ANDRE | R.G.M.
GOURD | LOUIS | MICHAEL
GRADY | JOHN | PATRICK
GREEN | ERYN | LEIGH
GREEN | WAYNE | KENT
GREGORY | DEBORAH | ANN
GRIFFITH-KOERFGEN | ANDREA | ELIZABETH
GROS | GABRIEL | LOUIS MICHEL
GROSLIN | CATHERINE | JENNIFER
GROSS | MORDECAI | YOSEF
GROSSMAN | JENNIFER | ANDREA
GUERQUIN-KERN | PIERRE-OLIVIER | STEVEN
GUEVARA | KARMEN | ANITA
GUILLEMNOT | CEDRIC | PAUL MAX
GUPTA | AGAM | KUMAR
GUPTA | ARJUN |
GUPTA | SAVIRA |
GUPTA | SUNIL | KUMAR
GUPTA | URVASHI |
GUYON | L. | ELIZABETH
HAASE | VIRGINIA | LEE
HAEGER | ROBERT | CHARLES
HAFKEMEIJER | GERALDINE | ISAURE MONIQUE
HAFNER | STEPHANIE | ELISABETH
HAGENBERG | HENDRIK | WILLEM
HAGERTY | MARY-LOUISE |
HAHN | FABIAN | ANDREAS
HAIDAR | STEVE | AHMAD
HAIDER | BARBARA | ELLEN
HAILPERIN | PAUL |
HAINES | ALPHONSINE | THERESE
HALL | CHRISTOPHER | FRIEDL
HALLWOOD | COURTENAY | NATASHA
HAMILL | JAMES | MICHAEL
HAMILTON | CHERYL | LYNN
HAMILTON | NEIL | DOUGLAS
HAMMOND | EMILY | E.
HAMPTON | CARMEN | RAMONA
HAN | LIAN |
HAN | RAPHAEL | MINGYONG
HANNON | TARA | JEANNE
HANSON | KALLIN | JAMES
HAPPACH | SHANE | JEFFREY
HARAKIS | EMMA | LAUREN
HARRIS | PETER | LEONARD
HARWOOD | SIMON | PHILLIP
HATCH | RONNY | STEVEN
HATZIDIMITRIOU | KELLY |
HAUG | BERNHARD |
HAVER | ROBERT | MALCOLM
HAWKEY | STEPHANIE | ANN
HAWKINS | GILLIAN | LAURA
HAWKINS | JOHN | RICHARD
HAYDICKY | JILLIAN | ANN
HAYS | SUSAN |
HE | LI |
HEARD CARNOT | JANET | MARIE
HEEGAARD | CHRISTINE | PASCALE
HEEGAARD | JEAN | HENRIK
HEISEL | JACQUELINE | MARY
HEISIG | CARSTEN | DIETMAR
HELAL | JANET |
HELLINGA | TODD | MICHAEL
HENDERSON | EMMA | KATHERINE
HENNEN | DAGMAR | GUDRUN INGEBORG
HENRY | DUANE | GLENN
HEWSON | NATHANIAL | JEREMY
HIGGINGS | DEBBIE |
HIGGINS | ERIC | SIMON
HIGGINS | MICHAEL | PATRICK
HILLIARD | JOE | HANNAH
HILL-TOUT | KIMBERLY | NHU
HIPOLITO | STANLEIGH | C.B.
HJERPE | JOHAN | OSCAR
HO | MICHIKO |
HO JUNG | WINSTON | RYONG
HODSDON | NICHOLAS | JAMES
HOLDEN | DARIA | HANNA
HOLDEN | ELIZABETH | SARA
HOLLEY | KARIN-ANN |
HOLLINGDALE | CHRISTIE | ROSE
HOLLOWAY | MEGAN | JANE
HOLLOWAY | RICHARD | ALAN
HOLLOWAY | STEPHEN | RICHARD
HOLTZ | JEFFREY | CHARLES
HONEGGER | DIANA | MARIA
HOOKER | ROSS | WALTON
HORII | YOSHIYUKI |
HORLACHER | DANIEL | HUFUTIEN
HORVATH | STEVE |
HOURIEH | NADA |
HOURIEZ | REGIS | MARCEL GEORGE
HOWETT | KO | DANIEL
HOWIE | KERSTIN | DAWN
HRECHDAKIAN | TATYANA | KATARINA
HSIEH | JOSEPH | MING
HUANG | JIA-HORNG |
HUANG | STEPHANIE | SHIN-HOU
HUDSON | RANDY |
HUELS | NICHOLAS | CHRISTOPHER
HUGGINS | KELCEY | JAYNE
HUGHES | ELAINE | MARY
HUNT | ANDREW | FRASER
HUSS | FIONA | CAROLINE
HUTT JR | DONALD | JOSEPH
I CHANG | POLLY | SHIH
I HUANG | CINDY | CHING
IWERSEN | JOHN-HOLGER |
IWERSEN | KAI-CHRISTIAN |
IZRAELI | ORI |
JABOULET-VERCHERRE | PIERRE |
JACOBS | MICHAEL | FRANCIS
JACQUEMOUND | FREDERIC | NICHOLAS
JACQUES | VESNA |
JAMES | MARY | PATRICIA
JANYK | JOANNE | JEAN
JANZEN | MICHAEL | KONRAD
JAQUES | DAVID | ANDRE
JAQUES | MARIE-CHLOE |
JEFFRIES | RACHEL | ANN
JENKINS | SAMUEL | JAMES
JENSEN | JESSICA | ELODIE
JESKE | NANCY |
JEYES | VICTORIA | CANDACE
JOHNSON | JUDITH | TRASK
JOHNSON | MORRIS | CLIFFTON
JOHNSON | SEKOIA | ANNE
JOHNSTON | JANELLE | CHARISSE
JOLY | DANIEL | E.M.
JONES | JAMES | VICTOR
JONES | LIA | ALEXANDRA
JONES | MARY | LYNNE HAYWOOD
JORDI | ANDREW | RICO
JOSKI-JETHI | CAYLIN |
JULIENNE | BEATRICE | MARIE HELENE
JURANEK | NICOLAS | JOHANN CYRIL
KABBA | ALIE |
KARIKOMI | AUDREY | SOU
KARIMOV | ISLAM | KARIM
KATAYAMA | JUNKO | LILY
KEEGAN | PATRICIA | ANN
KEHR | JOACHIM | HEINRICH R.
KELLY | ARIANNA | KAYE ELYSE
KENNEDY | MARY | AGNES
KENNEDY | SEAN | PATRICK
KENNEDY | WILLIAM | JOHN
KENNETT | KEVIN | ALBERT
KEUPER | EMILY | ANN
KHAN | HISHAM | INAMULLAH
KHAN | SEEMA | NATASHA
KHUWAIBER | SARA |
KIDD | KOLLEEN |
KIM | DAREN | CHANG JIN
KIM | IVON | FREESIA
KIM | SOLBORI |
KIM | SUNYOUNG |
KIM | WILLIAM | JOONG
KINLEY | CECIL | EDWIN
KIRSCHNER | RALPH | KOLBJORNSON
KITAO | SAGIRI |
KITAY | GERALD | BENNETT
KIYOFUMI | TAMIAKI |
KLINDWORTH | CHERYL | M.
KLUMP | MARTHA | A.
KNACKMUSS | STEFAN | HANS-JOACHIM
KNIPMEYER | KIRK | MORRISON
KNOP | BEVERLY | KATHRYN
KO | IAN | TSUN-YI
KOECHI | NATASHA | M.
KOEHLER | JOHN | WOLFGANG
KOEHLER | RORY | ALBERT OTTO
KOHLER | ERIK |
KOLLER | JOHANNES | CHRISTOPH
KONG | YUN-ZHEN | CLARA
KORNOFF | JESSE |
KOTLINSKI | ANNA-CASSANDRA | MADELAINE
KRAAY | RACHEL | ANNE DEKONING
KRAGSKOW | JON | G.C.
KRAMER | HERBERT | JOHANNES
KRANE | ANN | ROBINS
KRIJGSMAN | MAARTEN | CORNELIS
KRIZ | BONNIE | LYNN
KURZ | JOHANNA | FRANZISKA
KUYPERS | PAUL | DIRK LEONARD
KWAK | MYOUNG | CHAI
LAFORCE | NATHALIE | MARIE
LAI | ALLAN | JIM
LAISHLEY | RICHARD | GEORGE
LAM | CHENG | JUN
LAMARRE | THOMAS | GREGORY
LAMICHHANE | MR. RABI |
LANCRENON | CHANTAL | MARIE ODILE
LANGRIAL | MUHAMMAD | ALI
LARMOUR | ROBERT | JOHN
LASHBROOK | TONI | LEE
LASNIER | JULIE | ANNE
LATNER | LYNDA | ROBIN
LAUER | HYE | I.
LAUREYSSENS | AMY |
LaVIER | PALIPORN | LADPLI
LAVIN | ASHLEY |
LAVIN | LISA |
LAVIN | TOM |
LAWLOR | KIRSTEN |
LAWSON | LINDLE | MORGAN
LAYCOCK | JONATHAN | EDWARD
LEBLANC | MICHELLE | MACDONALD
LECHUGA JR | ARMANDO | JOSE
LEE | ALBERT | HONG-WEN
LEE | ALLEN | CHEUK-LUN
LEE | AMY | HYUN-JUNG
LEE | ARTHUR |
LEE | HYUNJI | HANNAH
LEE | JONATHAN | JAEWOO
LEE | KEVIN | HUN
LEE | KUO-HWA |
LEE | MU-YI | TIFFANY
LEE | SEAN | BERNARD
LEE | TIMOTHY | ALEXANDER
LEECE | PRISCILLA | ANN
LEHMANN-BENDER | BRITT | MORISSA
LEIGH | JENNIFER | LLOY
LEMON | JOHN | ROBERT
LEMON | JUDITH | ELAINE
LENZEN | JOHN | CHARLES
LEONG | LANCE | MUN
LEVET | RAPHALLE | MARIE-THERESE JULIETTE
LEVMAN | RACHEL | TALIA
LHOIR | JEREMY | KNIGHT
LI | GARY |
LIAO | JONATHAN |
LIN | CHE-I |
LIN | QING | LAN
LINDHOLM | KNUT |
LINDLEY | KRISTIN | RAFFLI
LINGARD | RICHARD | IAN
LIOULIS | STYLIANOS |
LITTNER | CLAUDE | MANUEL
LIU | DIANA |
LO | FRANCIS | CHATEN
LOMASNEY | PETER | WICK
LONNSTROM | ANDREW | ERIK
LOPINOT | QUENTIN | SAM
LOTT | WILLIAM | BERRY
LOWRY | ROBERT | WAYNE
LUCKENSMEYER | DRINDA | DENICE
LUCKENSMEYER | RICHARD | LEE
LUDOLPH | ROBERT | CARL
LUECK | CHRISTIAN | JOSEPH
LUKIANENKO | KIRILL |
LUSK | LAURA | BETH
LUTHI | PIETER |
LYNCH | JEAN | LORRAINE
MacCONNELL | ROBERT | WILLIAM
MacINNIS | BRUCE | BALDWIN
MacINNIS | HILLARY | ANN
MACKAY | COURTNEY | MICHAEL
MacKINNON | VANESSA | KATHLEEN
MACKINTOSH | ETHAN | ALEXANDER
MACLEOD | MARY | AMBER
MAEDA | KENT | CREIGHTON
MAHENDRA WARD | AMRITHA | VELLORE
MAHMOOD | RAVI | LAILA
MAIER | GAIL | N.
MAKI | HIDEKI | GEORGE
MALCOMSON | MATHEW | JOHN
MALERBA | MICHELE | ANGELO
MALKO | VASSILISSA |
MANET | CONRAD | P.F.
MANNS | PATRICIA | JANINE
MARANO | HEATHER | JOYCE
MARCHANT | DANA | LOUISE
MARET | SUZANNE | REGAL
MARINA | JUSTINIAN | OVIDIU
MARKOCIC | VANESSA | MEGAN
MARPLE | DAVID | MICHAEL
MARSH | NATHAN | ALEXANDER
MARSTALLER | SUZANNE | G.
MARTENS | ERIC | PAUL
MARTI | CARLOS | JOSE
MARTIN | DAWN | IRENE
MARTIN | HEATHER | SUSAN
MARTIN | LAURE | GENEVIEVE
MARTIN | RANDALL | FOSTER
MARTINELLI | MARCELLO | BRUNO
MASI | JEANNETTE | MULARONI
MASLIN | ANDREW | LEE
MASON | KRISTINA | VINCENZA
MASSON | LAURA | ELIZABETH
MATSUI | KEIGO |
MATSUI | YUKI |
MATTOCK | JEANNINE | MARIE
MAUTH | KEVIN | DOUGLAS
MAY | CLAIRE |
MAY | RADMILA | MONICA
MC CREERY | SARAH | L.
MC KINNEY JR | WILLIAM | KENNETH
McALLISTER | LEANNE | GWENNYTH
MCCAFFREY | JACQUELINE | KATHLEEN
McCOMB | MICHAEL | SCOTT
MCCUTCHAN | JEFFREY | JACK
McDIARMID | JAMES | ALEXANDER
MCDONALD | DAVID | ROBERT
MCDONALD | MANABU | SHIBUYA
McELROY III (aka McELROY) | HARRY (AKA SANDY) | HUBBARD
MCGOWAN | HAROLD | CHARLES
MCGOWAN | SUSAN | ELEANOR
MCKAY | DUSTIN | MERRITT SETH
MCLVER | IAN | GARTH
MCMAHON | TUCKER | JACKSON
MCNALLY | CATHERINE | ELIZABETH
MCNAMARA | ERIC | JOSEPH
McNAUGHT | ROBERT |
MEDLEY | ALICE | JANE
MEHDI | FADI | NABEEL A.Q.
MEHTA | PREENA |
MEHTA | SANGEETA | SHENOY
MEIER | JEREMIAS | EMANUEL
MEIKLEJOHN | ELLEN | EVERSZ
MELOCHE | GISELE |
MENDOZA | ROSA | ADAMS
MERCER | PETER | JAMES
MERRITT | DANIEL | CHRISTOPHER
METZGER | STEVEN | WAYNE
MEYER | ILLANA | SARAH
MEYER | SEAN | ZEV
MEYLER | SUSAN |
MIAU | SCOTT | MATTHEW
MICHAEL | ALAN |
MICOCCIO | DAVID | ANTON
MIFFLIN SCHMID | ELIZABETH | PARKER
MILES | ELISA | MARIA
MILLER | JOAN | ELIZABETH
MILLER | MARSHALL | GRANT
MILLER | RONALD | DOUGLAS
MILLIGAN | LEISEL | CIEL
MILLIS | MARTHA | JEANNE
MILORADOVICH | TATIANA |
MINOGUCHI | KENTA | AXEL
MITCHELL | DANIEL | JOSEPH
MITTEL | DAVID | ALAN
MOK | NGAIMING |
MOLDOWAN | JASON | RYAN
MONAGHAN | MARTIN | RICHARD
MONCADA | BENEDETTA | MARIA
MONCADA | FRANCESCO | CORRADO
MONEY | JONATHAN | HOWARD
MONEY-COUTTS TREPAGNIER | PATRICIA | ANN
MONTGOMERY | LISA | MARIE
MONTGOMERY | TOMMIE | SUE
MOOK | BYRON | TELFER
MOON | CATHERINE | JOY
MOORE | JOHN | STUART
MOORE | SHEILA | KATHLEEN
MOORE | WILLIAM | ALAN
MOORE, II | CHARLES | RAY
MOORING | CHRISTOPHER | FORD
MORASSUTTI-VITALE | STEFANO |
MORE | GERARD | NORBERT
MORENCY | RONALD | GORDON
MORICE | KAY | LORRAINE
MORLEY | DORIANNA |
MORREY | DAWN | ELIZABETH
MOY DE VITRY | MATTHEW | TOBIAS
MUELLER | THOMAS | PETER
MULLIE | MARLEEN |
MUNKEL | DIANA | MARIE
MURDOCK | KATHLEEN | MARIE
MURPHY | ROSEMARY | ANN
MURTAGH | DEBORAH | ANNE
MUSTARD | WALTER | GERALD
MYRE | INGER-LYNN |
NAKAGAMI | YURIKO |
NAOR-HAKE | TAMAR | ZIPORA
NASCHOLD | DANIELA |
NAVARRO | CRISTINA |
NEATE | MELANIE | CATHERINE
NELSON | DWIGHT | LYMAN
NETO | ALBERTO | TEIXEIRA PAES
NEWTON | NICHOLAS | JOHN
NG | SANDRA | LI-WEN
NICHOLS | OSCAR | KARL FRANCIS
NICHOLSON | JODY | DARLENE
NOH | HANNAH |
NORQUOY | PETER |
NUYTS | IOLAINE | E.L.
O'CONNOR | JEREMIAH | DAVID
O'DEA | MARK | CHRISOPHER
OECHSLIN | ARNAUD | DOMINIQUE
OEPEN | DIETLIND | CORA
OKADA | GRACE | SETSUKO
OLIVER | LINDA | ANN
OMATSU | ATSUYA |
OMSTEAD | DANA | DUANE
O'NEILL | DIANA | JEAN
ONG | KEVIN | JIT-ENG
ONO | KENT | NAGAYAMA
ORZYNSKI | ADOLFO | MARTINEZ
OSTRO | STEVEN | GRAHAM
OUYOUB | HAMID |
OVERBY | RANDALL | PAUL
OW | VANESSA | YAN-PING
PAAUWE | CAREL | DIEDERIK
PAILLART | NICHOLAS | PHILLIPPE
PALLEY | NICOLAS | JEAN
PANDHARIPANDE | RAHUL | VIJAY
PAOLUCCI | NICHOLAS | GIOVANNI
PARK | JAE | SUK
PARKER | LAURIE | ELLEN
PASZKOWSKI | CYNTHIA | ANN
PATEL | KUNAL |
PATERSON | SALLY | ELLEN
PAYNE | WILLIAM | LAW
PAZZI | MATTEO | JONATHAN
PEARCE | PATSY | STEIG
PEARSON | DONALD | JAMES
PEARSON | SUZANNA | NANCY
PEDERSEN | SERENE | CALRISSIAN
PENN | DANIEL | MORRIS
PENRUDDOCKE | THOMAS | MILES
PENSALFINI | ANNE | JUDITH
PEPIN | FELICIEN | HANS MARC ANDRE
PERCLE | JAMES | JOSEPH
PERNET | RAPHAEL | BRYAN
PERROT | MURIELLE | HENRIETTE LEPOUTRE
PERRY | DWIGHT | G.
PETERS | TILO | STRATTON
PETERSON | EMILY | MIREILLE PATRICIA
PHILIPS | HANNAH | ELEANOR
PHILLIPS | IAN | DAVID
PICKERING | ELIZABETH | ANNE MILLIS
PIKE | HARLAN | EDSON
PIRAJNO | PATRICK | ANGELO
POWELL | PHILIP | ERIC
POWELL | WILLIAM | ANDREW
PRESCOTT | JEAN | ELIZABETH
PRESTON | MARK | JOHM
PRICE | KEVIN | CURTISS
PUGLIESE | MARC | DOMINIC
PULFORD | TRISTAN | VICTOR
PYPE | LOBKE | LAURA
PYRONNET-MASTERSON | CHRISTINE | MARIE
RADI | MARC | MICHAEL
RAMOS | LUIS | ALBERTO
RAPOPORT | LORNA | CARMEN
RATHBONE | CORA | LYNN H.
RATNER | HAILEY | LAURA
RAWSON | CLAUDE | J.
RAZZOUK | ROSHAN | RAOUL
REDDY BEZWADA | SUDHA |
REID | CHERYL | A.
REID | SHARON | ELAINE
REIMER | STEPHEN | RAY
RENDA | AMY | CAMERON
RICCI | RAOUL |
RICHARDSON | JOHN | NICHOLAS
RICHARDSON | PAULA | LYNN
RIDHA | MOHAMED | AHMED
RO | JINWOO | PAUL
ROBERT | SOPHIE | AGNES
ROBERTSON | ELISE | EILEEN
ROBINSON | GEORGE | ERNEST
ROBSON | ESTHER | LORRAINE
ROCCHI | CHARLES | ALEXANDER
ROCK | MATILDA | CECILY
ROFF | HELEN | EMMA
ROGOWSKI | LINNEA | NOEL
ROH | PATRICIA | LEBUN
ROLFSEN | CATHERINE | F.S.
ROLLWAGE | DANA | EVELINE
ROMAN | LAUREN | PASCALE
ROMANS | LEWIS | HERBERT
ROSARIO VINUELAS | ALBERTO |
ROSENBERG | JOSEPH | N.
ROSENSTOCK | REGULA | MONIKA
ROSSIER | VIRGINIE | AVA
ROTERING | MARIANNA |
ROTHKOPF | ROBERT |
ROTHMAN | STEPHEN | JOHN
ROUS | GISELE | MADELEINE
RUAN | EVA | WEI HUA
RUBADEAU | DONNA | CANDY
RUBADEAU | RONALD | JAMES
RUPPRECHT | THOMAS | ALFRED
RUSHFORTH | JOHN | PATRICK
RUSSELL | CYNTHIA | ANN
RUSSELL | TANIA | RENEE
RYHTI | BRUCE | VICTOR
SABELLA | ALEXANDER | JOHN
SALAM | SARA | JOYEMAYA
SALLEY | DANIELLE | MARIE
SANCHEZ | LELAND | MILTON
SANDERS-DE BRUYN | JULIE | RACHEL
SANDROCK | JESSICA | MARIE
SANGAMPALAYAM | SUNDARARAMAN | KANDASAMI
SANTOS | JUANITA |
SARLES | NIKOLAI | SANDEN
SAULNIER | RICHARD | FREDERICK
SCHIER | CLARA | FAE
SCHLAG | KATHERINE | ELLA
SCHLEIN | BENJAMIN | DANIELE
SCHMIT | BRIAN | JOHN
SCHNEIDER | DANIEL | FRED
SCHOLEY | RICHARD | ALAN
SCHREIBMAN | EPHRAIM | HARRY ABRAHAM
SCHUMAN | DANIELLE | AMBER
SCHURTER | BRUNO | H.
SCHUURMAN | NEIL |
SCHWEIZER | GEORGIA |
SCIRETTA | JEAN-NOEL | ANTOINE
SCOTT | WALTER | PALMER
SCULLY | AARON | ROBERT
SCULLY | CHAD | JAMES
SCURR | SARAH | PHOEBE
SEBERT | CAROL | ELIZABETH
SEGALAS | HARIKLIA |
SELBIE | OLIVIA | LENNARD
SENIOR | NANCY | MOORE
SENTOSA | JUNIAR | GRACE LEENARDO
SENTOSA | NICHOLAS |
SEUSS | MICHAEL | WILHELM
SHAMIE | LYNDA |
SHANAHAN | PATRICK | EMMETT
SHEELEY | MARK | FLOYD
SHEHADEH | ERIC | IMAD
SHERRIFFS | ALASTAIR | JAMES
SHIDEH | GRACE | NEGIN
SHIMADA | LEONA |
SHOCHAT | TZIPPORA |
SHONIWA | RUSERE | JOHN DIETER
SHUBERT | LEE |
SIBBALD | MARY | BLANCHE
SIEPERT | SEULGI | LEE
SII | KATELYN | EN-CHEE
SILVERBERG | ALEXANDRA | EDEN
SILVERBERG | MICHAEL | JOSEPH
SIMANTOV | ISAAC |
SIMMONS | TREVOR | JAMES
SIMON-NICKELL | SZILVIA |
SIMPSON | JUSTIN | VAUGHN
SINGH | SAHEB |
SKEVOFEELAX | VENETIA | M.
SLAATS | JOSEPHUS | JOHANNES
SMITH | CECELIA | LOUISE
SMITH | CINDI | CHANTAL
SMITH | COLLEEN | MARIE
SMITH | SIMONE | L.
SMITH | THOMAS | EDWARD
SMITH 3RD | WILLIAM | HAMILTON
SOALHAT | ARNAUD |
SOETRISNO | DIANA | BOEDI
SOGGE | DAVID | GEORGE
SOH | LUKE | YAN HAO
SOLIS | EVA | MATILDE
SOMEYA | MONICA | ANGELINA
SOUTHERN | RONALD | MICHAEL
SPANOPOULOS | MICHAIL |
SPRANZA | SARAH | HELEN
STADLER | JOSEPH | DAVID
STALEY | RANDY | LEE
STAUDINGER | CONSTANZE | SOPHIA
STECK | MELANIE | ALEXANDRA
STEINBERG | THEODORE | AARON
STENSKE | MICHAEL | JAMES
STEPHENSON | DONALD | W.
STEPTOE | GLORIA | JEAN
STERN | KENNETH |
STERN | RONALD | BRUCE
STERNHEIMER | JOHN | DAVID
STEWART | CHASE | ERIN
STEWART | JANE | IVERSON
STICKINGS | GRACE | CATHERINE
STIDDER | GARETH | THOMAS
STORMONT | FIONA | CLAIRE
STREATFEILD | HENRY | RICHARD
STREIFEL | SHANNON | VALAW
STRICKLAND | GERALD | MARK
STUCKI | MARIE | J.D.
STURMAN | MARIANNE | ELIZABETH
SU | I MAN |
SUARAZ | ARMAND | JOSEPH
SUBOTIC | NEVEN |
SUMIDA | STEPHANIE | YUUKO ISO
SUMRA | SARVAN | SINGH
SUNG | MIJIN | KATHERINE
SURESH | PRASHANTH | KALKUNTE
SUTER | BEATRICE | KARIN
SUTHERLAND | IAN | MICHAEL
SUTTER | BROOKE | ERIN
SUTTER | MERRICK | BRENT
SUZUKI | BETH | ANN
SWAIN | MARGARET | STEPHANIE
SWIFT-HILL | ELIZABETH | JOAN
SYMONS | KELLIE | JUNE
TAFTO | ANDERS | AMDAL
TAKAHAMA | HIROCHIKA |
TAKAHASHI | DANIEL | JO
TAKAHASHI | SHYUNSUKE | ROBERT
TANG | SARAH | WAI YEE
TARDIF | JEAN-PIERRE | J.M.
TARRANT | LAUREN | HELEN
TAVANO | GUY |
TAYLOR-WEZEMAN | PAMELA | SUSANNAH
TEICHER | YEHUDA |
TERHUNE | JULIA | MARIE
TESSIER | LUIS | MARIE
THOMPSON | JORDAN | STEVEN WILLIAM
THOMPSON | MARJORIE | ELLIS
THUT | LUISE |
TILLNER | KATHERINE | SUSAN
TILNEY | CHARLES | JOHN
TILNEY | JAMES | ANTHONY
TJIA | SA | BIN
TOLSON | ROBERT | CHRISTOPHER
TONG | KATHERINE | K.W.
TRANCU | IOANA | THEODORA
TRUBOW | MATTHEW | AARON
TRUDEAU | NADINE | MARGARET
TRUSCOTT | DERRA | ANN
TURMEL | TRACEY | ANNE
TYPALDOS | MARIELENA |
UCEDA | VERONICA | MARIA
ULLMANN | MARTIN | GERHARD
UMBLE | MATTHEW |
UMBLE | SAMUEL |
UN | MARY | ELLEN
UNSWORTH | EMILY | MARIE VIOLETA
UNSWORTH | JULIETTE | CHLOE MATILDA
UTIKAL | SOPHIE | CHARLOTTE
UTOMO | MORIANO | STEFAN
UUSIOJA | DAVID | SHANE
VALOIS | JOYCE | ROSE
VAN BEEST | ELINE | CHRISTIANE
VAN DEN BERG | PATRICIA | FRANCISCA
VAN DER ELST | TANGUY | ANDRE BERNARD
Van EGDOM | KAYLA | ELIZABETH
VAN KAMMEN | JESSIKA | RIEMSKE
VAN MELLAERT | CATHERINE | EMILIA MARCELLA
VAN OSTRAND | ROBIN | SUE
VanDenBroeder | CHRISTOPHER | ALEXANDER
VANDENDRIES | FRANS | LUC
VARELA | MARTIN | IVAN
VAS | ALLISTAIR | LLOYD
VASILOPOULOU | SOPHIE | MARGETI
VASILOPOULOU | SPIRIDOULA |
VAWDA | FESAL |
VAZEEN | ALEXANDER | ROBERT
VEENENDAAL | SASKIA | MELISSA
VEJBY-CHRISTENSEN | MICHAEL |
VELLA | CHRISTOPHER | M.
VELLA | STEPHANIE | S.
VENNER | CHRISTOPHER | PAUL
VENUS | MICHAEL | DAVID
VERBEEM | GETRUDE | MARIE
VERNON | BRIONY | MICHELE
VIAL | GERALDINE | HELEN
VIDAL | LUCIE | MARIE
VIHER | FLORENCE | VIOLA
VITELIS | ALEXANDROS |
VITTI | JAMES | ANTHONY
VOCK-VERLEY | NATHALIE | SANDRA
VOGEL | SUSAN | NICHOLE
VON DER LINDEN | HELEN | KATHRYN
VONDERSCHMITT | ZITA | MARIA
VRANCKEN-CALAFIORE | MICHELE |
WADDELL | NORMAN | ALAN
WADE | MALCOLM | ALEXANDER
WALCZAK | DAVID | JERZY
WALLIS | ADRIANNA |
WALLIS | JENNIFER | VALENTINE
WALLIS | MARTIN |
WANG | ANDREW | YEN LAP
WANG | HSIU | MEI
WANG | PATRICK | YUN-HWA
WANG | SUZANNE | SHU FEN
WANG | TIFFANY |
WARNER | BRITNEY | THERESE
WARNER | ROSEMARY | MAXINE
WARR | CAROLYN | SUSAN
WAUCQUEZ | CLEMENT | AMAURY
WEBSTER | ANDREW | KYLE
WEINBERG | JEREMY | BEN
WEINSTEIN | CAROL | M.
WEINSTEIN | HOWARD | CHARLES
WELCH | ELIZABETH | JANE
WELCH | GORDON | D.
WERREN | DANIEL | PETER
WERTS | MARGOT | NOELLE
WHEATLAND | PETER | CHRISTOPHER
WHEELER | VIRGINIA | BARRETT
WHEELER | YOAQUINA | CHRISTINE
WHITAKER | CHARLES | W.A.
WHITE | ERIC | CAMERON
WHITE | MARTIN | ANDREW
WHITEHOUSE | ADRIANNA | STELLA
WHITTINGTON | BRENDA | KAY
WHITTINGTON | BRETT | EDWARD
WHOOLEY | NIAMH | MARIE
WIGHT SMITH | PAULA | ANN
WIJSTMA | SJOERD |
WILLETT | DWIGHT | ARTHUR
WILLIAMS | ANN |
WILLIAMSON IV | WILLIAM | ABNER
WILLOUGHBY | ALEXANDER | THOMAS
WILLOUGHYBY | THOMAS | VELBERT
WILSON | DIRK | GUY
WILSON | LORRAINE |
WILSON | MICHAEL |
WITT | JOHN | HENRY
WOELLHAF | THOMAS | OSKAR
WOLFE | ASHLEY | ELIZABETH
WONG | ELSA | YATYING
WONG | JORDAN |
WONG | SHIU | YING IRIS
WOO | NATHANIEL | JAMES
WOODHOUSE | PETER | HUBERT
WOOLF | ANDREW | L.
WOOLF | MICHELLE | A.
WORTHEN | BRIAN | GEORGE
WRIGHT | NICOLE |
WRIGHT-SMITH | ELIZA | MARGARET
WRIGHT-SMITH | JULIA | ELIZABETH
WROHAN | JEAN | DUVAL
WU | NANCY | SUN
WUH | CHRISTY | HSIA-HUEI
YAKOPIN | VIVIEN | ROSALIND
YANAGI | MAYUMI |
YANG | NAM | HEE
YASHIRO | YUKA |
YEE | LAUREN |
YEN | JAY | CHIN
YOUNG | BRIGITTA |
YOUNG | THOMAS | CAMPBELL
YU | ANTHONY | CHE YOUNG
YUAN | TA AN |
YUAN LIN | SHU | MIN
ZEENNY | TAMARA |
ZENDEL | MARY | DIANA
ZHANG | YAN |
ZHENG | JOLENE | LISI
ZICKERMANN | JOHANNES | ERICH
ZION | RONEN |
ZIRKNITZER | PETRA |
ZUBER | JENNIFER | ANN
ZUBER | TANJA | VICTORIA

Dated: November 8, 2018.
Diane Costello,
Manager Classification Team 82413, Examinations Operations—Philadelphia Compliance Services.

[FR Doc. 2018-25155 Filed 11-16-18; 8:45 am]

BILLING CODE 4830-01-P